DEPARTMENT OF TRANSPORTATION

Federal Highway Administration

Environmental Impact Statement: City and County of Los Angeles, CA

AGENCY: Federal Highway Administration (FHWA), DOT.

ACTION: Notice of intent.

SUMMARY: The FHWA is issuing this notice to advise the public that an Environmental Impact Statement (EIS) and Environmental Impact (EIR) will be prepared for a project in Los Angeles, California, known as the State Route (SR) 90/Admiralty Way Improvements Project.

FOR FURTHER INFORMATION CONTACT: Steve Healow, Federal Highway Administration, 650 Capitol Mall Suite 4-100, Sacramento, Calfironia 94814, Telephone: (916) 498-5849 or Dominic Osmena, Project Manager, L.A. County Public Works, 900 South Fremont Avenue, Alhambra, California 91803, Telephone: (626) 458-5912.

SUPPLEMENTARY INFORMATION: The FHWA is issuing this notice to advise the public that an EIS will be prepared for proposed improvements to the roadway system in Los Angeles County, California.

The study area is in the northwest, north and east quadrants of Marina del Rey, a County-owned and operated tidal marina, which connects to Santa Monica Bay. The approximate study area boundaries are Via Marina/Admiralty Way intersection on the West, Admiralty Way on the northwest and west, SR 90 on the northeast, Mindanao Way on the east and Fiji Way on the south.

The proposed improvements will extend SR90 to create a direct route into Marina del Rey, and improvements to Admiralty Way. The proposed project consists of two components: the SR 90 (Marina Expressway) Connector Road, and Admiralty Way Improvements. The SR 90 Connector Road consists of realignment of approximately 1,250 feet of SR 90 between Mindanao Way and SR 1 (Lincoln Boulevard), and construction of a connector road between SR 1 and Admiralty Way. Alternatives under consideration include (1) taking no action; (2) the Northern Alternative realignment of SR 90; (3) the Basin F realignment of SR 90; and (4) the Bali Way realignment of SR 90. The Admiralty Way Improvements component includes proposed improvements to intersections, lane configurations, and/or land widths along 8,450 feet of Admiralty Way between Fiji Way and Via Marina. Alternatives under consideration include (1) taking no action; (2) five lane re-striping; (3) five/six land widening; (4) reconfigure Via Marina/Admiralty Way intersection, and (5) pedestrian enhancements. Incorporated into and studied with the various build alternatives will be design variations of grade and alignment. Property acquisitions and utility relocations may be necessary. Transportation Systems Management (TSM)/Transportation Demand Management (TDM) alternatives will also be considered.

To ensure that the full range of issues related to this proposed action are addressed and all significant issues identified, comments, and suggestions are invited from all interested parties. Comments or questions concerning this proposed action and the EIS should be directed to the contacts provided above. Key environmental issues to be studied include, but are not limited to, air quality, noise, traffic, socioeconomic impacts, business relocations, hazardous materials, biological, water quality, coastal zone, flood plains, wetlands, visual impacts, impacts to open space and cultural resources and parking. Other key issues may arise at the scoping meeting or during the environmental review process. Resources subject to Section 106 of the National Historic Preservation Act may be affected. Section 4(f) resources may also be affected. Letters describing the proposed action and soliciting comments will be sent to appropriate Federal, State and local agencies, and to private organizations and citizens who have previously expressed, or are known to have an interest in, this proposal.

The public is invited to participate in a scoping meeting(s) on March 9, 2006 at 7 p.m. and on March 18, 2006 at 10:30 a.m. at the Burton Chace Park Community Room, 13650 Mindanao Way, Marina del Rey. The purpose of the scoping meeting(s) is to seek input and to collect ideas and concerns regarding (1) the individual project concepts and (2) the environmental studies to be done. The draft EIS will be available for public and agency review prior to the public hearing.

(Catalogue of Federal Domestic Assistance Program Number 20.205, Highway Planning and Construction. The regulations implementing Executive Order 12372 regarding intergovernmental consultation on Federal programs and activities apply to this program.)

Issued on: January 23, 2006.
Steve Healow,
Federal Highway Administration, Sacramento, California.

[FR Doc. 06-924 Filed 1-31-06; 8:45 am]

BILLING CODE 4910-22-M